DEPARTMENT OF TRANSPORTATION

National Highway Traffic Safety Administration

[Docket Number NHTSA-2000-8273]

Reports, Forms, and Recordkeeping Requirements

AGENCY: National Highway Traffic Safety Administration (NHTSA), Department of Transportation.

ACTION: Request for public comment on proposed collections of information.

SUMMARY: Before a Federal agency can collect certain information from the public, it must receive approval from the Office of Management and Budget (OMB). Under procedures established by the Paperwork Reduction Act of 1995, before seeking OMB approval, Federal agencies must solicit public comment on proposed collections of information, including extensions and reinstatements of previously approved collections.

This document describes two collections of information for which NHTSA intends to seek OMB approval.

DATES: Comments must be received on or before March 9, 2001.

ADDRESSES: Comments must refer to the docket and notice number cited at the beginning of this notice and be submitted to U.S. Department of Transportation Dockets, Room PL-401, 400 Seventh Street, SW., Washington, DC 20590. Please identify the proposed collection of information for which a comment is provided, by referencing its OMB Control Number. It is requested, but not required, that one original plus two copies of the comments be provided. The Docket Section is open on weekdays from 10:00 a.m. to 5:00 p.m.

FOR FURTHER INFORMATION CONTACT: Complete copies of each request for collection of information may be obtained at no charge from Ms. Henrietta L. Spinner, NHTSA, 400 Seventh Street, Southwest, Room 5320, NPS-32, Washington, DC 20590. Ms. Spinner's telephone number is (202) 366-0846. Please identify the relevant collection of information by referring to its OMB clearance number.

SUPPLEMENTARY INFORMATION: Under the Paperwork Reduction Act of 1995, before an agency submits a proposed collection of information to OMB for approval, it must publish a document in the Federal Register providing a 60-day comment period and otherwise consult with members of the public and affected agencies concerning each proposed collection of information. OMB has promulgated regulations describing what must be included in such a document. Under OMB's regulation (at 5 CFR 1320.8 (d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected; and

(iv) How to minimize the burden of the collection of information on those who are to respond, including the use of appropriate automated, electronic, mechanical, or other technological collection techniques or other forms of information technology, e.g., permitting electronic submission of responses.

In compliance with these requirements, NHTSA asks for public comment on the following current collections of information for which the agency is seeking extension of their approval from OMB:

Title: 49 CFR 537—Automotive Fuel Economy Reports.

OMB Control No.: 2127-0019.

Form Number: This collection of information uses no standard form.

Abstract: Part 537 requires automobile manufacturers to submit semi-annual reports to NHTSA regarding their efforts to improve fuel economy.

Type of Request: Extension of a currently approved collection.

Affect Public: Business or other for-profit organizations.

Requested Expiration Date: Three years from approval date.

Summary of the Collection of Information: NHTSA ensures that automobile manufacturers comply with 49 CFR part 537—Automotive Fuel Economy Reports. Part 537 requires that automobile manufacturers submit reports to NHTSA regarding their efforts to improve automotive fuel economy.

Section 32907 of Chapter 329 of title 49 of the United States Code requires each automobile manufacturer (other than those low volume manufacturers which were granted an alternative fuel economy standard under section 32902 (d)) to submit semi-annual reports to the agency relating to that manufacturers' efforts to comply with average fuel economy standards. One report is due during the 30-day period preceding the beginning of each model year (the “pre-model year report”) and the other is due during the 30-day period beginning on the 180th day of the model year (the “mid-model year report”).

Section 32907 (a)(1) of Chapter 329 provides that each report must contain a statement as to whether the manufacturer will comply with average fuel economy standards for that year, a plan describing the steps the manufacturer took or will take to comply with the standards, and any other information the agency may require. Whenever a manufacturer determines that a plan it has submitted in one of its reports is no longer adequate to assure compliance, it must submit a revised plan.

Description of the Need for the Information and Proposed Use of the Information: This information assists NHTSA in evaluating automobile manufacturers' plans for complying with average fuel economy standards and in preparing an annual review of the average fuel economy standards. The information is collected by NHTSA by having the automobile manufacturers mail their semi-annual automotive fuel economy reports and/or submit a copy on computer diskette to the agency. The required information is used for four basic purposes. These purposes are: (a) To give NHTSA advance indication if any manufacturer will fail to comply with the applicable average fuel economy standards; (b) to give NHTSA necessary information to prepare fuel economy reports; (c) to assist NHTSA in responding to general information requests concerning automotive fuel economy, which are routinely received from Congress, other parts of the Executive branch, and the public; and (d) to provide NHTSA with detailed and accurate technical and economic information used to evaluate possible future average fuel economy standards which may be established by NHTSA.

Description of the Likely Respondents (Including Estimated Number, and Proposed Frequency of Response to the Collection of Information): NHTSA anticipates that no more than 17 vehicle manufacturers will be affected by the reporting requirements. NHTSA does not believe any of these 17 manufacturers are a small business (i.e., one that employs less than 500 persons). NHTSA anticipates a total of about 40 responses may be filed by these 17 manufacturers. Most manufacturers will respond semiannually; however, a few manufacturers may respond more frequently.

Estimate of the Total Annual Reporting and Recordkeeping Burden Resulting from the Collection of Information: NHTSA estimates that the vehicle manufacturers will incur a total annual reporting and cost burden of 3,300 hours and $645,000.

Title: 49 CFR 583—Automobile Parts Content Labeling.

Type of Request: Extension of a currently approved collection.

OMB Control Number: 2127-0573.

Form Number: This collection of information uses no standard form.

Requested Expiration Date of Approval: Three years from approval date.

Summary of the Collection of Information: NHTSA ensures that automobile manufacturers comply with 49 CFR Part 583—Automobile Parts Content Labeling. Part 583 establishes requirements for the disclosure of information relating to the countries of origin of the equipment of new passenger motor vehicles.

Description of the Need for the Information and Proposed Use of the Information: This information will be used by NHTSA to determine whether manufacturers are complying with the American Automobile Labeling Act (49 United States Code 32304). The American Automobile Labeling Act requires all new passenger motor vehicles (including passenger cars, certain small buses, all light trucks and multipurpose passenger vehicles with a gross vehicle weight rating of 8,500 pounds or less), to bear labels providing information about domestic and foreign content of their equipment. With the affixed label on the new passenger motor vehicle, it serves as an aid to potential purchasers in the selection of new passenger motor vehicles by providing them with information about the value of the U.S./Canadian and foreign parts of each vehicle, the countries of origin of the engine and transmission, and the site of the vehicle's final assembly.

Description of the Likely Respondents (Including Estimated Number, and Proposed Frequency of Response to the Collection of Information): NHTSA anticipates that no more than 17 vehicle manufacturers will be affected by these reporting requirements. NHTSA does not believe any of these 17 manufacturers are a small business (i.e., one that employs less than 500 persons). Manufacturers of new passenger motor vehicles, including passenger cars, certain small buses, and light trucks with a gross vehicle weight rating of 8,500 pounds or less, must file a report annually.

Estimate of the Total Annual Reporting and Recordkeeping Burden Resulting from the Collection of Information: NHTSA estimates that the vehicle manufacturers will incur a total annual reporting and cost burden of 6,066 hours and $4,700,000. The amount includes annual burden hours incurred by multi-stage manufacturers and motor vehicle equipment suppliers.

Issued on: January 2, 2001.
Noble N. Bowie,
Acting Associate Administrator for Safety, Performance Standards.

[FR Doc. 01-433 Filed 1-5-01; 8:45 am]

BILLING CODE 4910-59-P